DEPARTMENT OF TRANSPORTATION

Federal Railroad Administration

[Docket Number FRA-2010-0152]

Petition for Amending Waiver of Compliance

In accordance with Part 211 of Title 49 Code of Federal Regulations (CFR), this document provides the public notice that by a document dated January 24, 2013, the National Railroad Passenger Corporation (Amtrak) has petitioned the Federal Railroad Administration (FRA) for an amendment of a waiver of compliance from certain provisions of the Federal railroad safety regulations contained at 49 CFR part 240, Qualification and Certification of Locomotive Engineers, in Docket Number FRA-2010-0152. On May 11, 2010, FRA granted Amtrak a waiver of compliance from 49 CFR 240.117(e)(1)-(4), 240.305, and 240.307. The relief granted to Amtrak was contingent on its continued participation in the Confidential Close Call Reporting System (C3RS) pilot project. FRA granted the original waiver for a period of 5 years.

Amtrak, the Brotherhood of Locomotive Engineers and Trainmen, and the United Transportation Union seek to shield the reporting employee and the railroad from punitive sanctions that would otherwise arise as provided in selected sections of 49 CFR 240.307, to encourage locomotive engineer reporting of close calls, and to protect locomotive engineers and Amtrak from discipline or sanctions arising from the incidents reported pursuant to the Implementing Memorandum of Understanding (IMOU).

The proposed amendment extends the boundaries of inclusion under Article 3 of the IMOU to all Amtrak-owned or -controlled properties nationwide. The additional locations include: the Northeast Corridor (all main track operations); the Hudson Line; the Michigan Line in New Orleans, LA; and yards and facilities owned by Amtrak that are connected to other carriers' tracks.

Further, the amendment proposes changing the applicability parameters under Article 3.1 of the Amtrak IMOU, affording C3RS protection to NJ Transit train and engine service employees working in Sunnyside Yard.

Finally, the amendment proposes amending Article 6.4 of the Amtrak IMOU pertaining to special additional criteria for close call event reporting to allow coverage for events involving damage or derailment below the FRA monetary reporting threshold.

A copy of the petition, as well as any written communications concerning the petition available for review online at www.regulations.gov and in person at the U.S. Department of Transportation's Docket Operations Facility, 1200 New Jersey Avenue, SE., W12-140, Washington, DC 20590. The Docket Operations Facility is open from 9 a.m. to 5 p.m., Monday through Friday, except Federal Holidays. If you do not have access to the Internet, please contact FRA's Docket Clerk at 202-493-6030, who will provide necessary information concerning the contents of the petition.

Interested parties are invited to participate in these proceedings by submitting written views, data, or comments. FRA does not anticipate scheduling a public hearing in connection with these proceedings since the facts do not appear to warrant a hearing. If any interested party desires an opportunity for oral comment, they should notify FRA in writing before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal Holidays.

Communications received within April 29, 2013 of the date of this notice will be considered by FRA before final action is taken. Comments received after that date will be considered as far as is practicable.

Anyone is able to search the electronic form of any written communications and comments received into any of our dockets by the name of the individual submitting the comment (or signing the document, if submitted on behalf of an association, business, labor union, etc.). See http://www.regulations.gov/#!privacyNotice for the privacy notice of regulations.gov, or interested parties may review DOT's complete Privacy Act Statement in the Federal Register published on April 11, 2000 (65 FR 19477).

Issued in Washington, DC, on April 3, 2013.
Robert C. Lauby,
Deputy Associate Administrator for Regulatory and Legislative Operations.

[FR Doc. 2013-08209 Filed 4-8-13; 8:45 am]

BILLING CODE 4910-06-P